DEPARTMENT OF HEALTH AND HUMAN SERVICES

National Institutes of Health

National Institute on Aging; Amended Notice of Meeting

Notice is hereby given of a change in the meeting of the Behavior and Social Science of Aging Review Committee, June 05, 2019, 11:00 a.m. to June 06, 2019, 11:00 a.m., Hotel Kabuki, 1625 Post Street, San Francisco, CA 94155 which was published in the Federal Register on February 27, 2019, 84 FR 6405.

The meeting notice is amended to change the two-day meetings' starting and ending times on June 5, 2019 to 9:00 a.m.-5:00 p.m. and on June 6, 2019 to 8:30 a.m.-3:00 p.m. The meetings are closed to the public.

Dated: May 7, 2019.
Melanie J. Pantoja,
Program Analyst, Office of Federal Advisory Committee Policy.

[FR Doc. 2019-09738 Filed 5-10-19; 8:45 am]

BILLING CODE 4140-01-P